DEPARTMENT OF AGRICULTURE

Food and Nutrition Service

7 CFR Part 226

RIN 0584-AC94

Cihld and Adult Care Food Program; Implementing Legislative Reforms to Strengthen Program Integrity

Correction

In rule document 02-15776 beginning on page 43448 in the issue of Thursday, June 27, 2002, make the following correction:

§ 226.18 [Corrected]

On page 43493, in the third column, in § 226.18, in paragraph (b)(15), in the ninth line, “§226.6(1)(2);” should read “§226.6(l)(2);”

[FR Doc. C2-15776 Filed 7-19-02; 8:45 am]

BILLING CODE 1505-01-D

DEPARTMENT OF HEALTH AND HUMAN SERVICES

Office of Refugee Resettlement

Final Notice of Allocations to States of FY 2002 Funds for Refugee Social Services

Correction

In notice document 02-17027 beginning on page 45131 in the issue of Monday, July 8, 2002 make the following correction:

On page 45135, in table 1, under the column titled, “Total final allocation”, in the 10th line, “8,543,954” should read “18,543,954”.

[FR Doc. C2-17027 Filed 7-19-02; 8:45 am]

BILLING CODE 1505-01-D

DEPARTMENT OF TRANSPORTATION

Federal Aviation Administration

14 CFR Part 39

[Docket No. 2002-NM-127-AD; Amendment 39-12820; AD 2002-14-20]

RIN 2120-AA64

Airworthiness Directives; Boeing Model 737-600, -700, -800, and -900 Series Airplanes

Correction

In rule document 02-17548 beginning on page 46580 in the issue of Tuesday, July 16, 2002, make the following correction:

§39.13 [Corrected]

On page 46581, in the second column, in the second line of the Airworthiness Directive “Docket 2002-NM-1AD” should read “Docket 2002-NM-127-AD”.

[FR Doc. C2-17548 Filed 7-19-02; 8:45 am]

BILLING CODE 1505-01-D